DEPARTMENT OF COMMERCE

Office of the Secretary

15 CFR Part 0

[Docket No.: 010926237-3101-02]

RIN 0690-AA32

Employee Responsibilities and Conduct; Removal of Obsolete Regulations

AGENCY: Office of the General Counsel, Department of Commerce.

ACTION: Final rule.

SUMMARY: The Department of Commerce (the “Department”) issues this final rule to revise and remove certain sections of the Commerce and Foreign Trade Regulation concerning the policies and procedures relating to employee responsibilities and conduct. The government-wide regulations of the Office of Government Ethics make these Department provisions obsolete.

EFFECTIVE DATE: May 9, 2003.

FOR FURTHER INFORMATION CONTACT: Chris Cox, Attorney-Advisor, telephone number: (202) 482-2442, fax: (202) 501-2295.

SUPPLEMENTARY INFORMATION: In August, 1992, the Office of Government Ethics promulgated the Executive Branch Financial Disclosure, Qualified Trusts, and Certificate of Divestiture regulations, 5 CFR part 2634, and the Standards of Ethical Conduct for Employees of the Executive Branch, 5 CFR part 2635. These regulations implemented the responsibilities and standards required by the 1978 Ethics in Government Act.

This final rule removes the following provisions from the Department's internal conduct regulations codified at 15 CFR part 0:

• Subparts B, C, and E;

• Sections 0.735-10a, 0.735-11, 0.735-12, 0.735-13, 0.735-14, and 0.735-15; and

• Appendices B and C.

These provisions are removed because they are superseded by provisions in the Ethics Program that are codified at 5 CFR parts 2634 and 2635.

This final rule also modifies the authority citation for 15 CFR part 0, and revises the language in 15 CFR section 0.735-2 to indicate that employees should refer to the standards of ethical conduct, financial disclosure, and other applicable regulations that are codified in 5 CFR part 2635 and 5 CFR part 2634.

Any supplementary regulations necessary, for Department-specific circumstances, may be promulgated in the future as provided by the current Office of Government Ethics regulations.

Classification

Executive Order 12866

This action has been determined to be not significant for purposes of Executive Order 12866.

Executive Order 13132

It has been determined that this action does not contain policies with Federalism implications as that term is defined in Executive Order 13132.

Administrative Procedure Act

Pursuant to 5 U.S.C 553(b)(A) prior notice and an opportunity for public comment are not required for this rule of agency organization, management, and procedure. Further, this rule of agency organization, management, and procedure is not a substantive rule subject to the 30-day delay in effective date requirement of 5 U.S.C. 553(d).

Regulatory Flexibility Act

As this rule is not subject to the requirement to provide prior notice and an opportunity for public comment pursuant to 5 U.S.C. 553, or any other law, it is not subject to the analytical requirements of the Regulatory Flexibility Act, 5 U.S.C. 601 et seq.

Paperwork Reduction Act

This rule does not contain or involve any information collection requirements that require the approval of the Office of Management and Budget pursuant to the Paperwork Reduction Act, 44 U.S.C. chapter 35.

List of Subjects 15 CFR Part 0

Administrative practice and procedure, Conflict of interests.

Theodore W. Kassinger,
General Counsel.

For the reasons set forth in the preamble, the Department of Commerce is amending 15 CFR part 0 as follows:

PART 0—EMPLOYEE RESPONSIBILITIES AND CONDUCT

1. The authority citation for part 0 is revised to read as follows:

Authority: 5 U.S.C. 301, 7301, 7353; 5 U.S.C. App. (Ethics in Government Act of 1978); 26 U.S.C. 7214(b); E.O. 12674, 54 FR 15159, 3 CFR 1989 Comp., p. 215, as modified by E.O. 12731, 55 FR 42547, 3 CFR 1990 Comp., p. 306; 5 CFR part 2635.

2. Section 0.735-2 is revised to read as follows:

§ 0.735-2 Cross-references to ethical conduct, financial disclosure, and other applicable regulations.

Employees of the Department of Commerce should refer to the executive branch-wide Standards of Ethical Conduct at 5 CFR part 2635 and the executive branch-wide financial disclosure regulations at 5 CFR part 2634

3. Subparts B and C are removed and reserved.

4. In Subpart D, §§ 0.735.10a, 0.735-11, 0.735-12, 0.735-13, 0.735-14, 0.735-15 are removed and reserved.

5. Subpart E is removed and reserved.

6. Appendices B and C to part 0 are removed.

[FR Doc. 03-11490 Filed 5-8-03; 8:45 am]

BILLING CODE 3510-BW-P